NATIONAL SCIENCE FOUNDATION

Advisory Committee for Engineering; Notice of Meeting

In accordance with the Federal Advisory Committee Act (Pub. L. 92-463, as amended), the National Science Foundation (NSF) announces the following meeting:

Name and Committee Code: Advisory Committee for Engineering #1170.

Date and Time: April 7, 2021; 11:00 a.m. to 4:30 p.m.; April 8, 2021; 11:00 a.m. to 4:00 p.m.

Place: National Science Foundation, 2415 Eisenhower Avenue, Alexandria, Virginia 22314 | Virtual.

Type of Meeting: Open.

Contact Person: Evette Rollins, erollins@nsf.gov; 703-292-8300; NSF, 2415 Eisenhower Avenue, Alexandria, VA 22314. The forthcoming virtual meeting information and an updated agenda will be posted at https://www.nsf.gov/events/event_summ.jsp?cntn_id=301612&org=ENG.

Purpose of Meeting: To provide advice, recommendations and counsel on major goals and policies pertaining to engineering programs and activities.

Agenda

Wednesday, April 7, 2021

• Directorate for Engineering Report

• NSF Budget Update

• NSF Strategic Plan

• Report from Subcommittee on the SBIR/STTR Program

• Division of Engineering Education and Centers (EEC) Overview

• EEC Committee of Visitors (COV) Report

• Reports from Advisory Committee Liaisons

• Covid-19 Impacts and Response

• Preparation for Discussion with the Director's Office

Thursday, April 8, 2021

• Grid-Connected Testing Infrastructure for Networked Control of Distributed Energy Resources (DERConnect)

• Climate Change Research Directions for Engineering

• Perspectives from the Director's Office

• Roundtable on Strategic Recommendations for ENG

Dated: March 4, 2021.
Crystal Robinson,
Committee Management Officer.

[FR Doc. 2021-04896 Filed 3-9-21; 8:45 am]

BILLING CODE 7555-01-P